DEPARTMENT OF TRANSPORTATION

Federal Aviation Administration

14 CFR Part 39

[Docket No. 2000-NM-46-AD]

RIN 2120-AA64

Airworthiness Directives; Raytheon Model Hawker 800XP and Hawker 800 (U-125A) Series Airplanes

AGENCY: Federal Aviation Administration, DOT.

ACTION: Notice of proposed rulemaking (NPRM).

SUMMARY: This document proposes the adoption of a new airworthiness directive (AD) that is applicable to certain Model Hawker 800XP and Hawker 800 (U-125A) series airplanes. This proposal would require inspection of the wire bundle to relay ‘KT’ on panel ‘JA’ for correct routing, adequate clearance from the fuel cross-feed valve operating lever, and the presence of chafing; this proposal also would require corrective action, if necessary. This action is intended to detect and correct chafing of the wire bundle exiting panel ‘JA’ due to insufficient clearance from the fuel cross-feed valve operating lever. Such chafing of the wire bundle could result in a fire in the area of the fuel system in a confined space. This action is intended to address the identified unsafe condition.

DATES: Comments must be received by September 22, 2000.

ADDRESSES: Submit comments in triplicate to the Federal Aviation Administration (FAA), Transport Airplane Directorate, ANM-114, Attention: Rules Docket No. 2000-NM-46-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-46-AD” in the subject line and need not be submitted in triplicate. Comments sent via the Internet as attached electronic files must be formatted in Microsoft Word 97 for Windows or ASCII text.

The service information referenced in the proposed rule may be obtained from Raytheon Aircraft Company, 9709 East Central, Wichita, Kansas 67206. This information may be examined at the FAA, Transport Airplane Directorate, 1601 Lind Avenue, SW., Renton, Washington or at the FAA, Small Airplane Directorate, Wichita Aircraft Certification Office, 1801 Airport Road, Room 100, Mid-Continent Airport, Wichita, Kansas.

FOR FURTHER INFORMATION CONTACT: Philip Petty, Aerospace Engineer, Systems and Propulsion Branch, ACE-116W, FAA, Small Airplane Directorate, Wichita Aircraft Certification Office, 1801 Airport Road, Room 100, Mid-Continent Airport, Wichita, Kansas 67209; telephone (316) 946-4139; fax (316) 946-4407.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-46-AD.” The postcard will be date stamped and returned to the commenter.

Availability of NPRMs

Any person may obtain a copy of this NPRM by submitting a request to the FAA, Transport Airplane Directorate, ANM-114, Attention: Rules Docket No. 2000-NM-46-AD, 1601 Lind Avenue, SW., Renton, Washington 98055-4056.

Discussion

The FAA has received a report indicating that the wire bundle to relay ‘KT’ on panel ‘JA’ has been installed too close to the fuel cross-feed valve operating lever, due to misinterpretation of engineering drawings. Thus, there is inadequate clearance between the wire bundle and the fuel cross-feed valve operating lever. If this inadequate clearance is not corrected, it could result in chafing of the wire bundle exiting panel ‘JA’ which could cause a fire in the area of the fuel system in a confined space.

Explanation of Relevant Service Information

The FAA has reviewed and approved Raytheon Aircraft Service Bulletins SB24-3212, dated August 1999, and SB 24-3213, Revision 1, dated February 2000, which describe procedures for a one-time inspection of the wire bundle to relay ‘KT’ on panel ‘JA’ for correct routing, adequate clearance, and signs of chafing, caused by interference with the fuel cross-feed valve operating lever. The service bulletins also describe procedures for repairing the wire bundle, if chafing is detected, and for modifying the routing of the wire bundle and ensuring adequate clearance between the wire bundle and the fuel cross-feed valve operating lever throughout its range of travel. Accomplishment of the actions specified in the applicable service bulletin is intended to adequately address the identified unsafe condition.

Explanation of Requirements of Proposed Rule

Since an unsafe condition has been identified that is likely to exist or develop on other products of this same type design, the proposed AD would require accomplishment of the actions specified in the service bulletins described previously.

Cost Impact

There are approximately 148 airplanes of the affected design in the worldwide fleet. The FAA estimates that 60 airplanes of U.S. registry would be affected by this proposed AD, that it would take approximately 1 work hour per airplane to accomplish the proposed inspection, and that the average labor rate is $60 per work hour. Based on these figures, the cost impact of the inspection proposed by this AD on U.S. operators is estimated to be $3,600, or $60 per airplane.

No estimate is provided for the cost impact of repairing the wire bundle or modifying the routing of the wire bundle or ensuring adequate clearance between the wire bundle and the fuel cross-feed valve operating lever, because these costs will depend on the extent of the repairs or modifications required.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Raytheon Aircraft Company: Docket 2000-NM-46-AD.

Applicability: Model Hawker 800XP series airplanes, as listed in Raytheon Service Bulletin SB24-3212, dated August 1999, and Hawker 800 (U-125A) series airplanes, as listed in Raytheon Service Bulletin SB24-3213, dated February 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD, and, if the unsafe condition has not been eliminated, the request should include specific proposed actions to address it.

Compliance: Required as indicated, unless accomplished previously.

To prevent chafing of the wire bundle to relay ‘KT’ on panel ‘JA’ due to insufficient clearance from the fuel cross-feed valve operating lever, which could result in a fire in the area of the fuel system in a confined space, accomplish the following:

Inspection and Corrective Actions

(a) Within 50 flight hours or 6 months after the effective date of this AD, whichever comes first, conduct a one-time detailed visual inspection of the panel “JA” wire bundle in accordance with the Accomplishment Instructions of Raytheon Aircraft

Service Bulletin SB 24-3212, dated August 1999 (for Model 800XP series airplanes) or SB 24-3213, Revision 1, dated February 2000 (for Model 800 (U-125A) series airplanes, as applicable.

(1) Ensure that the wire bundle is routed correctly, in accordance with Figure 1 of the applicable service bulletin.

(2) Ensure that a minimum clearance of 0.25-inches exists between the wire bundle from relay “KT” and the fuel cross-feed valve operating lever throughout its range of travel.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(b) If the wire bundle is routed correctly and sufficient clearance exists, no further action is required by this AD.

(c) If the wire bundle is not routed correctly or if sufficient clearance does not exist, prior to further flight, perform a detailed visual inspection of the wire bundle to relay “KT” for chafing, in accordance with the Accomplishment Instructions of Raytheon Aircraft Service Bulletin SB 24-3212, dated August 1999 (for Model 800XP series airplanes) or SB 24-3213, Revision 1, dated February 2000 (for Model 800 (U-125A)series airplanes), as applicable.

(1) If no chafing is detected, prior to further flight, ensure that the wire bundle is routed correctly and ensure that a minimum clearance of 0.25-inches exists between the wire bundle and the fuel cross-feed valve operating valve throughout its range of travel, in accordance with the applicable service bulletin.

(2) If any chafing is detected, prior to further flight, repair the chafed wire, ensure that the wire bundle is routed correctly and ensure that a minimum clearance of 0.25-inches exists between the wire bundle and the fuel cross-feed valve operating valve throughout its range of travel, in accordance with the applicable service bulletin.

Alternative Methods of Compliance

(d) An alternative method of compliance or adjustment of the compliance time that provides an acceptable level of safety may be used if approved by the Manager, Wichita Aircraft Certification Office (ACO), FAA, Small Airplane Directorate. Operators shall submit their requests through an appropriate FAA Principal Maintenance Inspector, who may add comments and then send it to the Manager, Wichita ACO.

Note 3: Information concerning the existence of approved alternative methods of compliance with this AD, if any, may be obtained from the Wichita ACO.

Special Flight Permits

(e) Special flight permits may be issued in accordance with sections 21.197 and 21.199 of the Federal Aviation Regulations (14 CFR 21.197 and 21.199) to operate the airplane to a location where the requirements of this AD can be accomplished.

Issued in Renton, Washington, on August 2, 2000.
Donald L. Riggin,
Acting Manager, Transport Airplane Directorate, Aircraft Certification Service.

[FR Doc. 00-20002 Filed 8-7-00; 8:45 am]

BILLING CODE 4910-13-P